DEPARTMENT OF ENERGY

Federal Energy Regulatory Commission

Combined Notice of Filings

Take notice that the Commission has received the following Natural Gas Pipeline Rate and Refund Report filings:

Docket Numbers: RP21-956-000.

Applicants: Texas Gas Transmission, LLC.

Description: Compliance filing Pro Forma Tariff Records for GMS Go Live to be effective 12/31/9998.

Filed Date: 7/6/21.

Accession Number: 20210706-5045.

Comments Due: 5 p.m. ET 7/19/21.

Docket Numbers: RP21-957-000.

Applicants: Northern Natural Gas Company.

Description: Compliance filing 202107 May 2021 Missed Deadline Imbalance to Storage.

Filed Date: 7/6/21.

Accession Number: 20210706-5052.

Comments Due: 5 p.m. ET 7/19/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 8, 2021.
Debbie-Anne A. Reese,
Deputy Secretary.

[FR Doc. 2021-15150 Filed 7-15-21; 8:45 am]

BILLING CODE 6717-01-P